DEPARTMENT OF COMMERCE

International Trade Administration

[A-570-084; C-570-085]

Certain Quartz Surface Products From the People's Republic of China: Final Results of 2021-2023 Antidumping Duty and 2021-2022 Countervailing Duty Administrative Reviews

AGENCY: Enforcement and Compliance, International Trade Administration, Department of Commerce.

SUMMARY: The U.S. Department of Commerce (Commerce) determines that certain Malaysian exporters of certain quartz surface products (quartz surface products) continue to be ineligible to participate in the scope certification process established for the antidumping duty (AD) and countervailing duty (CVD) orders on quartz surface products from the People's Republic of China (China) for all imports of quartz surface products from Malaysia. Specifically, we found that these Malaysian exporters did not demonstrate that the quartz slab used to produce their exports to the United States was sourced from a country other than China.

DATES: Applicable November 22, 2024.

FOR FURTHER INFORMATION CONTACT: Ajay Menon, AD/CVD Operations, Office IX, Enforcement and Compliance, International Trade Administration, U.S. Department of Commerce, 1401 Constitution Avenue NW, Washington, DC 20230; telephone: (202) 482-0208.

SUPPLEMENTARY INFORMATION:

Background

Commerce published the Preliminary Results of this administrative review on August 5, 2024.¹ For a description of the events that occurred since the Preliminary Results, see the Issues and Decision Memorandum.²

¹ See Certain Quartz Surface Products from the People's Republic of China: Preliminary Results of 2021-2023 Antidumping Duty and 2021-2022 Countervailing Duty Administrative Reviews, 89 FR 63400 (August 9, 2024).

² See Memorandum, “Issues and Decision Memorandum for the Final Results of the Antidumping Duty and Countervailing Administrative Reviews of Certain Quartz Surface Products from the People's Republic of China,” dated concurrently with, and hereby adopted by, this notice (Issues and Decision Memorandum).

Scope of the Orders ³

³ See Certain Quartz Surface Products from the People's Republic of China: Antidumping and Countervailing Duty Orders, 84 FR 33053 (July 11, 2019) (Orders).

The products covered by the Orders are quartz surface products from China. For a complete description of the scopes of the Orders, see the Issues and Decision Memorandum.⁴

⁴ Commerce normally does not issue administrative reviews under section 751 of the Act which cover companion AD and CVD orders in the same Federal Register notice because these are different segments under different proceedings. However, these reviews were conducted for the express purpose of determining if certain exporters which cannot currently participate in a certification regime established under 19 CFR 351.228 are eligible to certify as a result of these reviews and these are companion orders. Similar to scope rulings, under 19 CFR 351.225(m)(2), and circumvention inquiries, under 19 CFR 351.226(m)(2), Commerce has determined that segments conducted to address a parties' certification eligibility under 19 CFR 351.228 may be conducted in a single decision applicable to both proceedings.

Analysis of Comments Received

All issues raised in interested parties' case briefs are addressed in the Issues and Decision Memorandum. A list of these issues is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results

Commerce conducted these reviews in accordance with section 751 of the Tariff Act of 1930, as amended (the Act). We determine that Bada Industries, Karina Stone, Unique Stone Sdn. Bhd. (Unique Stone), and Universal Quartz have not demonstrated that the quartz slab used to produce their Malaysian exports to the United States during the periods of review was sourced from a country other than China. As a result, we find that Bada Industries, Karina Stone, Unique Stone, and Universal Quartz continue to be ineligible to participate in the certification process for quartz surface products from Malaysia.

Assessment Rates

Pursuant to section 751(a)(2)(C) of the Act and 19 CFR 351.212(b)(2), Commerce has determined, and U.S. Customs and Border Protection (CBP) shall assess, antidumping and countervailing duties on all appropriate entries covered by this review.⁵ For the period November 4, 2021, through December 31, 2022, we will instruct CBP to liquidate any entries for the exporters under review at 371.47 percent, the combination of the China-wide rate established in the AD investigation and the all-others rate established in the CVD investigation.⁶ For the period of January 1, 2023, through June 30, 2023, we will instruct CBP to liquidate any entries for the exporters under review at 326.15 percent, the China-wide rate established in the AD investigation.⁷

⁵ See 19 CFR 351.106(c)(2).

⁶ See Orders, 84 FR at 33054-33055.

⁷ Id. at 33054.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements—AD

Because Commerce continues to find that the Malaysian exporters subject to this review (i.e., Bada Industries, Karina Stone, Unique Stone, and Universal Quartz) are ineligible to participate in the certification process, the following cash deposit instructions remain effective for all shipments of the subject merchandise from China entered, or withdrawn from warehouse, for consumption on or after the publication date of the final results of this administrative review, as provided by section 751(a)(2)(C) of the Act: (1) for the Malaysian exporters subject to this review (i.e., Bada Industries, Karina Stone, Unique Stone, and Universal Quartz), the AD cash deposits continue to be equal to the current China-wide rate (i.e., 326.15 percent); (2) for previously investigated or reviewed exporter of subject merchandise that have a separate rate, the cash deposit rate will continue to be the exporter's existing cash deposit rate; (3) for all Chinese exporters of subject merchandise that do not have a separate rate, the cash deposit rate will be the rate established for the China-wide entity, i.e., 326.15 percent; ⁸ and (4) for all exporters of subject merchandise that are not located in China and that are not eligible for a separate rate, the cash deposit rate will be the rate applicable to the Chinese exporter(s) that supplied that non-Chinese exporter. These existing cash deposit requirements shall remain in effect until further notice.

⁸ Id.

Cash Deposit Requirements—CVD

In accordance with section 751(a)(2)(C) of the Act, for the exporters subject to this review (i.e., Bada Industries, Karina Stone, Unique Stone, and Universal Quartz), CBP shall continue to collect cash deposits of estimated countervailing duties for the companies subject to this review at the all-others rate (i.e., 45.32 percent).⁹ For all non-reviewed firms, CBP will continue to collect cash deposits of estimated countervailing duties at the all-others rate or the most recent company-specific rate applicable to the company, as appropriate. These existing cash deposit requirements shall remain in effect until further notice.

⁹ Id., 84 FR at 33055.

Administrative Protective Order (APO)

This notice also serves as a final reminder to parties subject to APO of their responsibility concerning the return or destruction of proprietary information disclosed under APO in accordance with 19 CFR 351.305(a)(3). Timely written notification of the return/destruction of APO materials or conversion to judicial protective order is hereby requested. Failure to comply with the regulations and terms of an APO is a sanctionable violation.

Notification to Interested Parties

These final results are issued and published in accordance with sections 751(a)(1) and 777(i)(1) of the Act, and 19 CFR 351.221(b)(5).

Dated: November 15, 2024.
Abdelali Elouaradia,
Deputy Assistant Secretary for Enforcement and Compliance.

Appendix

List of Topics Discussed in the Issues and Decision Memorandum

I. Summary

II. Background

III. Scope of the Orders

IV. Discussion of the Issues

Comment 1: Whether AM Stone and Artelye Provided Sufficient Information To Establish That Their Imported Quartz Slabs Were Produced in Malaysia

Comment 2: Whether Commerce Applied Adverse Facts Available (AFA) to Cooperative Respondents

V. Recommendation

[FR Doc. 2024-27362 Filed 11-21-24; 8:45 am]

BILLING CODE 3510-DS-P